DEPARTMENT OF COMMERCE

International Trade Administration

A-822-804, A-570-860, A-560-811, A-841-804, A-455-803, A-580-844

Steel Concrete Reinforcing Bars from Moldova, the People's Republic of China, South Korea, Indonesia, Poland, and Belarus; Final Results of the Expedited Sunset Reviews of the Antidumping Duty Orders

AGENCY: Import Administration, International Trade Administration, Department of Commerce.

SUMMARY: On August 1, 2006, the Department of Commerce (“the Department”) initiated sunset reviews of the antidumping duty orders on steel concrete reinforcing bars from Moldova, the People's Republic of China, South Korea, Indonesia, Poland, and Belarus pursuant to section 751(c) of the Tariff Act of 1930, as amended (“the Act”). The Department has conducted expedited (120-day) sunset reviews for these orders pursuant to 19 CFR 351.218(e)(1)(ii)(C)(2). As a result of these sunset reviews, the Department finds that revocation of the antidumping duty orders would be likely to lead to continuation or recurrence of dumping.

EFFECTIVE DATE: December 5, 2006.

FOR FURTHER INFORMATION CONTACT: Audrey Twyman, Damian Felton, or Brandon Farlander, AD/CVD Operations, Office 1, Import Administration, International Trade Administration, U.S. Department of Commerce, 14th Street & Constitution Avenue, NW, Washington, DC 20230; telephone: (202) 482-3534, (202) 482-0133, and (202) 482-4136, respectively.

SUPPLEMENTARY INFORMATION:

Background

On August 1, 2006, the Department published the notice of initiation of the sunset reviews of the antidumping duty orders on steel concrete reinforcing bars (“rebar”) from Moldova, the People's Republic of China (“PRC”), South Korea, Indonesia, Poland, and Belarus pursuant to section 751(c) of the Act. See Initiation of Five-year (“Sunset”) Reviews, 71 FR 43443 (August 1, 2006) (“Notice of Initiation”).

On August 11, 2006, the Department received a notice of intent to participate from the following domestic parties: the Rebar Trade Action Coalition and its individual producer members, Nucor Corporation, CMC Steel Group, and Gerdau Ameristeel, as well as domestic producers TAMCO Steel and Schnitzer Steel Industries, Inc. (“Schnitzer”) (collectively “domestic interested parties”), within the deadline specified in 19 CFR 351.218(d)(1)(i). The companies claimed interested party status under section 771(9)(C) of the Act, as manufacturers of a domestic-like product in the United States.

On August 31, 2006, the Department received a complete substantive response to the notice of initiation from the domestic interested parties within the 30-day deadline specified in 19 CFR 351.218(d)(3)(i). In this response, Cascade Steel Rolling Mills, Inc. (“Cascade”) was substituted for Schnitzer as a domestic interested party. Cascade is a wholly owned subsidiary of Schnitzer. Also, Steel Dynamics, Inc. (“SDI”) was added as a domestic producer. Because SDI did not file a notice of intent to participate in this review, it is not eligible to file a substantive response. See 19 CFR 351.218(d)(iii)(A). Therefore, the domestic interested parties are now the Rebar Trade Action Coalition and its individual producer members, Nucor Corporation, CMC Steel Group, and Gerdau Ameristeel, as well as TAMCO Steel, and Cascade.

We received no responses from respondent interested parties with respect to any of the orders covered by these sunset reviews except Moldova. On August 31, 2006, the Department received a substantive response from respondent interested party, JSCC Moldova Steel Works, which was within the deadline specified in 19 CFR 351.218(d)(3)(i). On September 20, 2006, the Department determined that JSCC Moldova Steel Works did not account for more than 50 percent of exports by volume of the subject merchandise, because it reported that it had no exports during the 2001-2005 sunset review period. Therefore, the Department found that JSCC Moldova Steel Works did not submit an adequate substantive response to the Department's Notice of Initiation. See Memorandum to Susan H. Kuhbach entitled, “Adequacy Determination in Antidumping Duty Sunset Review of Steel Concrete Reinforcing Bars from Moldova,” (September 20, 2006).

As a result of an inadequate response from Moldova and no substantive response from the PRC, South Korea, Indonesia, Belarus, and Poland, pursuant to 19 CFR 351.218(e)(1)(ii)(C)(2), the Department conducted an expedited (120-day) sunset review of these orders.

Scope of the Orders

The product covered by these orders is all steel concrete reinforcing bars sold in straight lengths, currently classifiable in the Harmonized Tariff Schedule of the United States (“HTSUS”) under item numbers 7214.20.00, 7228.30.8050, 7222.11.0050, 7222.30.0000, 7228.60.6000, 7228.20.1000, or any other tariff item number. Specifically excluded are plain rounds (i.e., non-deformed or smooth bars) and rebar that has been further processed through bending or coating. HTSUS subheadings are provided for convenience and customs purposes. The written description of the scope of the order is dispositive.

Analysis of Comments Received

All issues raised in these reviews are addressed in the “Issues and Decision Memorandum for the Expedited Sunset Reviews of the Antidumping Duty Orders on Steel Concrete Reinforcing Bars from Moldova, the People's Republic of China, South Korea, Indonesia, Poland, and Belarus; Final Results” from Stephen J. Claeys, Deputy Assistant Secretary for Import Administration, to David M. Spooner, Assistant Secretary for Import Administration (November 29, 2006), which is hereby adopted by this notice (“Decision Memo”). The issues discussed in the Decision Memo include the likelihood of continuation or recurrence of dumping and the magnitude of the margins likely to prevail if the orders were to be revoked. Parties can find a complete discussion of all issues raised in these reviews and the corresponding recommendations in this public memorandum which is on file in room B-099 of the main Department building.

In addition, a complete version of the Decision Memo can be accessed directly on the Web at http://ia.ita.doc.gov/frn. The paper copy and electronic version of the Decision Memo are identical in content.

Final Results of Reviews

We determine that revocation of the antidumping duty orders on rebar from Moldova, the PRC, South Korea, Indonesia, Poland, and Belarus would be likely to lead to continuation or recurrence of dumping at the following weighted-average percentage margins:

Manufacturers/Exporters/Producers | Weighted Average Margin (percent)
Moldova
Moldova-Wide Rate | 232.86
PRC
Laiwu Steel Group | 133.00
PRC-Wide Rate | 133.00
South Korea
Dongkuk Steel Mill Co., Ltd./Korea Iron & Steel Co., Ltd. | 22.89
Hanbo Iron & Steel Co., Ltd. | 102.28
All Others | 22.89
Indonesia
PT Gunung Gahapi Sakti | 71.01
PT Bhirma Steel | 71.01
Krakatau Wajatama | 71.01
PT Jakarta Steel Perdana Industri | 71.01
PT Hanil Jaya Metal Works | 71.01
PT Pulogadung Steel | 71.01
PT Jakarta Cakra Tunggal | 71.01
PT The Master Steel Manufacturing Co. | 71.01
All Others | 60.46
Poland
Stalexport | 52.07
All Others | 47.13
Belarus
Belarus-Wide Rate | 114.53

This notice also serves as the only reminder to parties subject to administrative protective orders (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(c), and 777(i)(1) of the Act.

Dated: November 29, 2006.
Joseph A. Spetrini,
Acting Assistant Secretary for Import Administration.

[FR Doc. E6-20549 Filed 12-4-06; 8:45 am]

BILLING CODE 3510-DS-S